DEPARTMENT OF HEALTH AND HUMAN SERVICES

Health Resources and Services Administration

Notice of a Supplemental Award to the Emergency Medical Services for Children Innovation and Improvement Center at the Baylor College of Medicine

AGENCY: Health Resources and Services Administration (HRSA), Department of Health and Human Services.

ACTION: Notice of a supplemental award to the Emergency Medical Services for Children Innovation and Improvement Center at the Baylor College of Medicine—Grant Number U07MC29829.

SUMMARY: HRSA announces the award of a supplement for $500,000 to the Emergency Medical Services for Children (EMSC) Innovation and Improvement Center. The supplement will permit the Baylor College of Medicine, the cooperative agreement recipient, to establish and lead a new Quality Improvement Collaborative to support the EMSC State Partnership Program during the budget period of 07/1/2018-06/30/2019. EMSC plans to increase the proportion of EMS agencies that have a designated individual responsible for the coordination of pediatric emergency care by 2020 to 30 percent.

SUPPLEMENTARY INFORMATION: Intended Recipient of the Award: Baylor College of Medicine.

Amount of Non-Competitive Award: $500,000.

Period of Supplemental Funding: 07/01/2018-06/30/2019.

CFDA Number: 93.127.

Authority: Public Health Service Act, Title XIX, Section 1910 (42 U.S.C. 300w-9); as amended by the Emergency Medical Services for Children Reauthorization Act of 2014, Public Law 113-180.

Justification: Baylor College of Medicine's EMSC Innovation and Improvement Center (EIIC) provides technical assistance to State Partnership grantees on effective methods to improve EMS for pediatric patients within state and local EMS systems. Participant states will be supported by the EIIC through targeted technical assistance, the provision of tools and resources to support local efforts, and sharing of best practices. The EIIC will support the awarded states in participation in the following activities:

—Convene up to 10 state project teams awarded by HRSA comprised of the state EMSC manager and their state and local partners for one face-to-face meeting and regular virtual meetings.

—Facilitate the development of a collective action plan representing the common methods and aims across the QI collaborative for outreach to EMS agencies.

—Provide a venue for participating states to share lessons learned and best practices in outreach design and implementation.

—Provide access to subject matter expertise to advise the QI collaborative on pediatric emergency care coordination in the pre-hospital EMS setting.

—Provide technical assistance to up to 10 participating states as they implement the action plan designed through the QI collaborative.

—Facilitate an assessment at the end of the project to determine the number of EMS agencies that newly report having an individual responsible for coordinating pediatric emergency care.

FOR FURTHER INFORMATION CONTACT: Theresa Morrison-Quinata, Division of Child, Adolescent and Family Health, Maternal and Child Health Bureau, HRSA, 5600 Fishers Lane, Room 18N54, Rockville, MD 20852, Phone: 301-443-1527, Email: TMorrison-Quinata@hrsa.gov.

Grantee/organization name | Grant No. | State | FY 2018 authorized funding level | FY 2018 estimated supplemental funding
Baylor College of Medicine | U07MC29829 | TX | $1,500,000 | $500,000

Dated: April 18, 2019.
George Sigounas,
Administrator.

[FR Doc. 2019-08257 Filed 4-23-19; 8:45 am]

BILLING CODE 4165-15-P